DEPARTMENT OF ENERGY

Federal Energy Regulatory Commission

Combined Notice of Filings #1

Take notice that the Commission received the following electric corporate filings:

Docket Numbers: EC15-46-000.

Applicants: Verso Bucksport LLC, Verso Bucksport Power LLC.

Description: Application for Authorization for Disposition of Jurisdictional Facilities and Requests for Expedited Action and Confidential Treatment of Verso Bucksport LLC, et. al.

Filed Date: 12/8/14.

Accession Number: 20141208-5375.

Comments Due: 5 p.m. ET 12/29/14.

Take notice that the Commission received the following exempt wholesale generator filings:

Docket Numbers: EG15-24-000.

Applicants: Stephens Ranch Wind Energy II, LLC.

Description: Notice of Self-Certification of Exempt Wholesale Generator Status of Stephens Ranch Wind Energy II, LLC.

Filed Date: 12/9/14.

Accession Number: 20141209-5102.

Comments Due: 5 p.m. ET 12/30/14.

Docket Numbers: EG15-25-000.

Applicants: Milo Wind Project, LLC.

Description: Notice of Self-Certification of Exempt Wholesale Generator Status of Milo Wind Project, LLC.

Filed Date: 12/9/14.

Accession Number: 20141209-5103.

Comments Due: 5 p.m. ET 12/30/14.

Docket Numbers: EG15-26-000.

Applicants: Roosevelt Wind Project, LLC.

Description: Notice of Self-Certification of Exempt Wholesale Generator Status of Roosevelt Wind Project, LLC.

Filed Date: 12/9/14.

Accession Number: 20141209-5105.

Comments Due: 5 p.m. ET 12/30/14.

Take notice that the Commission received the following electric rate filings:

Docket Numbers: ER10-1246-009; ER10-1982-010; ER10-1253-009; ER10-1252-009; ER13-764-009; ER14-1927-001; ER12-2498-009; ER12-2499-009; ER14-1776-003.

Applicants: Consolidated Edison, Inc., Consolidated Edison Company of New York, Inc., Orange and Rockland Utilities, Inc., Consolidated Edison Solutions, Inc., CED White River Solar, LLC, CED White River Solar 2, LLC, Alpaugh 50, LLC, Alpaugh North, LLC, Broken Bow Wind II, LLC.

Description: Notice of Change in Status of the Consolidated Edison Inc. subsidiaries.

Filed Date: 12/5/14.

Accession Number: 20141205-5350.

Comments Due: 5 p.m. ET 12/26/14.

Docket Numbers: ER10-2835-005.

Applicants: Google Energy LLC.

Description: Notice of Change in Status of Google Energy LLC.

Filed Date: 12/9/14.

Accession Number: 20141209-5130.

Comments Due: 5 p.m. ET 12/30/14.

Docket Numbers: ER14-1750-002.

Applicants: New York Independent System Operator, Inc., Consolidated Edison Company of New York.

Description: Compliance filing per 35: Agreement No. 2013 Composite Between Con Edison and NYPA to be effective 4/23/2014.

Filed Date: 12/9/14.

Accession Number: 20141209-5123.

Comments Due: 5 p.m. ET 12/30/14.

Docket Numbers: ER15-35-001.

Applicants: Midcontinent Independent System Operator, Inc.

Description: Compliance filing per 35: 2014-12-09_External Resource Qual Compliance to be effective 12/2/2014.

Filed Date: 12/9/14.

Accession Number: 20141209-5158.

Comments Due: 5 p.m. ET 12/30/14.

Docket Numbers: ER15-114-001.

Applicants: Alterna Springerville LLC.

Description: Tariff Amendment per 35.17(b): Supplement to MBR Filing to be effective 1/1/2015.

Filed Date: 12/8/14.

Accession Number: 20141208-5345.

Comments Due: 5 p.m. ET 12/29/14.

Docket Numbers: ER15-601-000.

Applicants: Deseret Generation & Transmission Co-operative, Inc.

Description: § 205(d) rate filing per 35.13(a)(1): Member Rate Schedule Tariff Filing to be effective 1/1/2015.

Filed Date: 12/8/14.

Accession Number: 20141208-5342.

Comments Due: 5 p.m. ET 12/29/14.

Take notice that the Commission received the following qualifying facility filings:

Docket Numbers: EL15-28-000; QF96-54-004.

Applicants: Pasadena Cogeneration L.P.

Description: Petition for Temporary Waiver of Operating and Efficiency Standards for Qualifying Cogeneration Facility of Pasadena Cogeneration L.P. under EL15-28, et. al.

Filed Date: 12/9/14.

Accession Number: 20141209-5119.

Comments Due: 5 p.m. ET 12/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2014.
Nathaniel J. Davis, Sr.,
Deputy Secretary.

[FR Doc. 2014-29301 Filed 12-15-14; 8:45 am]

BILLING CODE 6717-01-P